DEPARTMENT OF HEALTH AND HUMAN SERVICES

National Institutes of Health

Basic Behavioral and Social Science Opportunity Network (OppNet)

ACTION: Notice.

SUMMARY: A two-day meeting highlighting OppNet's activities and future goals is scheduled for Thursday, October 28, and Friday, October 29, 2010, at the Hyatt Regency Washington on Capitol Hill, 400 New Jersey Avenue, NW., Washington DC 20001. This is the first public meeting to promote and publicize the Basic Behavioral and Social Science Opportunity Network (OppNet) initiative. Attendance is limited to prior registration via http://www.regonline.com/oppnet.

Background: The Basic Behavioral and Social Science Opportunity Network (OppNet) is a trans-NIH initiative to expand the agency's funding of basic behavioral and social sciences research (b-BSSR). OppNet prioritizes activities and initiatives that focus on basic mechanisms of behavior and social processes that are relevant to the missions and public health challenges of multiple NIH Institutes, Centers, and Offices (ICOs) and that build upon existing NIH investments without replicating them. http://www.oppnet.nih.gov.

Participating: The meeting will take place on October 28, from 9 a.m. to 4:30 p.m., and October 29, from 8:30 a.m. to 2:30 p.m., at the Hyatt Regency Washington on Capitol Hill, 400 New Jersey Avenue, NW., Washington DC 20001.

FOR FURTHER INFORMATION CONTACT: To register, visit the registration Web site at http://regonline.com/oppnet, call William Elwood at 301-402-0116, or e-mail elwoodwi@od.nih.gov.

Dated: October 15, 2010.
Lawrence A. Tabak,
Principal Deputy Director, National Institutes of Health.

[FR Doc. 2010-26709 Filed 10-21-10; 8:45 am]

BILLING CODE 4140-01-P